DEPARTMENT OF THE INTERIOR

Bureau of Land Management

[CO-800-1120-PG-241A]

Notice of Public Comment Deadline Extension; Correction

AGENCY: Bureau of Land Management, Interior; Forest Service, Agriculture.

ACTION: Notice; correction.

SUMMARY: The Bureau of Land Management and Forest Service published a notice of public comment deadline extension in the Federal Register of August 20, 2004. The document contained an incorrect date.

Correction

In the Federal Register of August 20, 2004, FR Vol. 69, No. 161, on page 51709, in the first column, under SUPPLEMENTARY INFORMATION, correct the first sentence in the last paragraph to read:

Written public comments will be accepted until November 30, 2004, and can also be mailed to Northern San Juan Basin CBM EIS, USDA FS Content Analysis Team, PO Box 221150, Salt Lake City, UT 84122.

FOR FURTHER INFORMATION CONTACT: Ann Bond, San Juan Public Lands Center, 15 Burnett Court, Durango, Colorado 81301. Phone (970) 385-1219.

Dated: October 18, 2004.
Mark W. Stiles,
San Juan Public Lands Center Manager.

[FR Doc. 04-23809 Filed 10-22-04; 8:45 am]

BILLING CODE 4310-JB-P